DEPARTMENT OF TRANSPORTATION

Federal Aviation Administration

Noise Compatibility Program (NCP); 14 CFR Part 150; Notice of Record of Approval (ROA); the Louisville International Airport, Louisville, KY (SDF)

AGENCY: Federal Aviation Administration (FAA), DOT.

ACTION: Notice.

SUMMARY: The Federal Aviation Administration (FAA) announces its findings on the noise compatibility program update submitted by the Louisville Regional Airport Authority (LRAA).

On October 29, 2008, the LRAA submitted to the FAA Air Traffic Organization (ATO) a request with supporting documentation for an offset approach to Runway 17R at Louisville International Airport (SDF). This request was for a re-evaluation of noise abatement measure NA-7, and associated measures NA-2 and NA-3, submitted to the FAA for action in its 2003 NCP but were deferred.

The FAA ATO evaluated the offset approach procedure provided by LRAA. After considerable review and evaluation, the procedure was disapproved. The FAA ATO notified LRAA of its determination on April 3, 2009. Subsequent to ATO's determination, the FAA issued its Record of Approval (ROA) concerning the LRAA's NCP update on August 4, 2009, and disapproved noise abatement measures NA-2, NA-3, and NA-7.

In its evaluation, the FAA reviewed the proposal under 14 CFR Part 150 and the Aviation Safety and Noise Abatement Act of 1979. Section 150.35 of Part 150 includes language stating that programs will be approved under this part if program measures relating to the use of flight procedures for noise control can be implemented within the period covered by the program and without reducing the level of aviation safety provided or adversely affecting the efficient use and management of the navigable airspace and air traffic control systems.

DATES: Effective Date: The effective date of the FAA's disapproval of the request for an offset approach to Runway 17R at Louisville International Airport is April 3, 2009. The effective date of FAA's ROA of LRAA's NCP update is August 4, 2009.

FOR FURTHER INFORMATION CONTACT: Stephen Wilson, Community Planner, Federal Aviation Administration, Memphis Airports District Office, 2862 Business Park Drive, Building G, Memphis, TN 38118. Documents reflecting this FAA action can be reviewed in person at this same location.

SUPPLEMENTARY INFORMATION: The FAA has reviewed Noise Abatement Measures (NA-2), (NA-3) and (NA-7) in accordance with 14 CFR Part 150. The ROA contains the FAA's decisions for 3 of the 7 NCP measures that were previously deferred under LRAA's 2003 NCP. The FAA has given its disapproval to the Runway 17R offset approach request at LRAA. All other portions of the previously issued ROA remain in effect.

The following is a brief overview of the request:

On October 29, 2008, the LRAA provided the FAA Air Traffic Organization with a letter and supporting documentation requesting an offset approach to Runway 17R at Louisville International Airport (SDF). This was additional information submitted for re-evaluation of previously submitted but deferred noise abatement measures NA-2, NA-3, and NA-7 in LRAA's 2003 NCP

Issued in Memphis, TN, on November 3, 2009.
Tommy L. Dupree,
Acting Manager, Memphis Airports District Office, Southern Region.

[FR Doc. E9-27654 Filed 11-18-09; 8:45 am]

BILLING CODE 4910-13-M